DEPARTMENT OF THE INTERIOR

National Park Service

[NPS-WASO-NAGPRA-19590; PPWOCRADN0-PCU00RP14.R50000]

Notice of Inventory Completion: Shiloh Museum of Ozark History, Springdale, AR

AGENCY: National Park Service, Interior.

ACTION: Notice.

SUMMARY: The Shiloh Museum of Ozark History has completed an inventory of human remains and associated funerary objects in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Shiloh Museum of Ozark History. If no additional requestors come forward, transfer of control of the human remains to the Indian tribes or Native Hawaiian organizations stated in this notice may proceed.

DATES: Representatives of any Indian tribe or Native Hawaiian organization not identified in this notice that wish to request transfer of control of these human remains and associated funerary objects should submit a written request with information in support of the request to the Shiloh Museum of Ozark History at the address in this notice by December 17, 2015.

ADDRESSES: Carolyn Reno, Shiloh Museum of Ozark History 118 W. Johnson Avenue, Springdale, AR 72764, telephone (479) 750-8165, email creno@springdalear.gov.

SUPPLEMENTARY INFORMATION: Notice is here given in accordance with the Native American Graves Protection and Repatriation Act (NAGPRA), 25 U.S.C. 3003, of the completion of an inventory of human remains and associated funerary objects under the control of the Shiloh Museum of Ozark History, Springdale, AR. The human remains and associated funerary objects were removed from Beaver Lake, Washington County, AR (Shiloh Site 3WA128).

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Shiloh Museum of Ozark History professional staff in consultation with representatives of The Osage Nation (previously listed as the Osage Tribe).

History and Description of the Remains

In 1968, human remains representing, at minimum, one individual were removed from Shiloh Site 3WA128 Burial 2 in Washington County, AR, by the Northwest Arkansas Archaeological Society (N.W.A.A.S.) and donated to Shiloh Museum. The N.W.A.A.S. donation is the complete human remains of a child about eight years of age. The human remains date from between 500 B.C. to A.D. 1500. There is no lineal descendent or culturally affiliated contemporary Indian tribe that can be determined. No known individuals were identified. The 20 associated funerary objects include four blades, six blade fragments, eight projectile points, one projectile point fragment, and one punch.

Determinations Made by the Shiloh Museum of Ozark History

Officials of the Shiloh Museum of Ozark History have determined that:

• Pursuant to 25 U.S.C. 3001(9), the human remains described in this notice are Native American based on determination of age of remains (500 B.C.-A.D.1500), burial site in a bluff shelter, and associated burial material.

• Pursuant to 25 U.S.C. 3001(9), the human remains described in this notice represent the physical remains of one individual of Native American ancestry.

• Pursuant to 25 U.S.C. 3001(3)(A), the 20 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Pursuant to 43 CFR 10.11(c)(1), the disposition of the human remains and associated funerary objects may be to The Osage Nation (previously listed as the Osage Tribe).

Additional Requestors and Disposition

Representatives of any Indian tribe or Native Hawaiian organization not identified in this notice that wish to request transfer of control of these human remains and associated funerary objects should submit a written request with information in support of the request to Carolyn Reno, Shiloh Museum of Ozark History, 118 W. Johnson Avenue, Springdale, AR 72764, telephone (479) 750-8165, email creno@springdalear.gov, by December 17, 2015. After that date, if no additional requestors have come forward, transfer of control of the human remains and associated funerary objects to The Osage Nation (previously listed as the Osage Tribe) may proceed.

The Shiloh Museum of Ozark History is responsible for notifying The Osage Nation (previously listed as the Osage Tribe) that this notice has been published.

Dated: October 14, 2015.
Melanie O'Brien,
Manager, National NAGPRA Program.

[FR Doc. 2015-29359 Filed 11-16-15; 8:45 am]

BILLING CODE 4312-50-P